DEPARTMENT OF THE INTERIOR

Bureau of Reclamation

Agency Information Collection Activities Under OMB Review; Comment Request

AGENCY: Bureau of Reclamation, Interior.

ACTION: Notice of renewal of currently approved collection (OMB No. 1006-0002).

SUMMARY: In accordance with the Paperwork Reduction Act of 1995 (44 U.S.C. 3501 et seq.), this notice announces that the following Information Collection Request (ICR) has been forwarded to the Office of Management and Budget (OMB) for review and approval: Recreation Use Data Report, OMB No. 1006-0002. The ICR describes the nature of the information collection and its expected cost and burden.

DATES: Your comments must be received on or before August 7, 2006.

ADDRESSES: You may send comments regarding the burden estimate, or any other aspect of the information collection, including suggestions for reducing the burden, to the Desk Officer for the Department of the Interior at the Office of Management and Budget, Office of Information and Regulatory Affairs, via facsimile to (202) 395-6566 or e-mail to OIRA_DOCKET@omb.eop.gov. A copy of your comments should also be directed to the Bureau of Reclamation, Land Resources Office, 84-53000, Attention: Mr. Vernon Lovejoy, P.O. Box 25007, Denver, Colorado 80225-0007.

FOR FURTHER INFORMATION CONTACT: For additional information or a copy of the proposed Recreation Use Data Report forms, contact Mr. Lovejoy at the address provided above or by telephone at (303) 445-2913.

SUPPLEMENTARY INFORMATION: Title: Recreation Use Data Report (Form No. 7-2534—Part 1, Managing Partners and Form No. 7-2535—Part 2, Concessionaires).

Abstract: Reclamation collects Reclamation-wide recreation and concession information (1) in support of existing public laws including the Land and Water Conservation Fund Act (Pub. L. 88-578) and the Federal Water Project Recreation Act (Pub. L. 89-72); and (2) to fulfill reports to the President and the Congress. This collection of information allows Reclamation to (1) meet the requirements of the Government Performance and Results Act (GPRA), (2) fulfill congressional and financial reporting requirements, and (3) support specific information required by the Land and Water Conservation Fund Act and the Department of the Interior's GPRA-based strategic plan. Collected information will permit relevant program assessments of resources managed by Reclamation, its recreation managing partners, and/or concessionaires for the purpose of implementing Reclamation's mission to manage, develop, and protect water and related resources in an environmentally and economically sound manner in the interest of the American people. Specifically, the collected information provides Reclamation with the ability to (1) evaluate program and management effectiveness pertaining to existing recreation and concessionaire resources and facilities, and (2) validate effective public use of managed recreation resources, located on Reclamation project lands in the 17 Western States.

Frequency: Annually.

Respondents: State, local, or tribal governments; agencies who manage Reclamation's recreation resources and facilities; and commercial concessions, subconcessionaires, and nonprofit organizations located on Reclamation lands with associated recreation services.

Estimated Total Number of Respondents: 275.

Estimated Number of Responses per Respondent: 1.

Estimated Total Number of Annual Responses: 275.

Estimated Total Annual Burden on Respondents: 138 hours.

Estimate of Burden for Each Form:

Form No. | Burden estimate per form (in minutes) | Annual number of respondents | Annual burden on respondents (in hours)
7-2534 (Part 1, Managing Partners) | 30 | 160 | 80
7-2535 (Part 2, Concessionaires) | 30 | 115 | 58
Total Burden Hours |  |  | 138

Comments are invited on: (a) Whether the proposed collection of information is necessary for the proper performance of the functions of Reclamation, including whether the information will have practical use; (b) the accuracy of Reclamation's estimated burden of the proposed collection of information; (c) ways to enhance the quality, use, and clarity of the information to be collected; and (d) ways to minimize the burden of the collection of information on those who are to respond, including through the use of automated collection techniques or other forms of information technology.

An Agency may not conduct or sponsor, and a person is not required to respond to, a collection of information unless it displays a currently valid OMB control number. Reclamation will display a valid OMB control number on the forms in this information collection. A Federal Register notice with a 60-day comment period soliciting comments on this information collection was published in the Federal Register on March 6, 2006 (71 FR 11225, Mar. 6, 2006). Reclamation did not receive any comments on this information collection during the comment period.

OMB has up to 60 days to approve or disapprove this information collection, but may respond after 30 days; therefore, public comment should be submitted to OMB within 30 days in order to assure maximum consideration.

Department of the Interior practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

Roseann Gonzales,
Director, Office of Program and Policy Services, Denver Office.

[FR Doc. E6-10659 Filed 7-6-06; 8:45 am]

BILLING CODE 4310-MN-P